DEPARTMENT OF ENERGY

Federal Energy Regulatory Commission

[Docket Nos. ER02-1656-000 and ER02-1656-026]

California Independent System Operator Corporation; Supplemental Notice of Technical Conference

September 8, 2005.

As previously announced, the Federal Energy Regulatory Commission (FERC) staff will convene a technical conference to explore tariff issues related to demand response, including special case nodal pricing (SCNP) and the establishment of Load Aggregation Point (LAP) zones for wholesale customers.¹ This conference will be held in San Francisco, California, on Tuesday, September 13, 2005, at 9 a.m. (P.d.t.) at the Renaissance Parc 55 Hotel, 55 Cyril Magnin Street, San Francisco, California 94012; (415) 392-8000. Attached is the agenda for this conference.²

¹ See Notice of Technical Conference, Docket Nos. ER02-1652-000 and ER02-1652-026 (August 22, 2005).

² This technical conference pertains to matters discussed in California Independent System Operator Corp., 112 FERC ¶ 61,013 at P 37 and 39 (2005) (July 1 Order).

FOR FURTHER INFORMATION CONTACT: Heidi.Werntz@FERC.gov; (202) 502-8910.

Magalie R. Salas,
Secretary.

Attachment

Technical Conference Agenda

Renaissance Parc 55 Hotel, 55 Cyril Magnin Street, San Francisco, California 94102, (425) 392-8000.

September 13, 2005.

I. Introductions and Opening Remarks

II. Special Case Nodal Pricing (SCNP): Overview of the issue by FERC staff. California Department of Water Resources State Water Project presents its SCNP proposal. California Public Utilities Commission (CPUC) discussion on how SCNP would fit in with the state's overall energy policy. Discussion by California Independent System Operator (CAISO) of implementation issues. Open discussion of issues.

Participants should be prepared to discuss the following topics:

• The pros and cons of SCNP for California;

• Who would be eligible for SCNP;

• How many megawatts would potentially be involved;

• How much would SCNP cost and who would be affected;

• What software changes would be required to implement SCNP;

• What impediments exist to implementing SCNP, and how long would it take to implement it;

• What impact SCNP would have on other current demand response programs.

III. Establishment of LAP Zones for Wholesale Customers: Discussion of issues and potential impacts of allowing individual wholesale customers to establish their own LAP zones.³

³ July 1 Order, 112 FERC ¶ 61,013 at P 37.

IV. Demand Response and the CAISO Tariff: Overview of California's demand response policies and programs by the State agencies. Participants will have the opportunity to discuss, among other things:

• How successful demand response has been this summer;

• How demand response fits into CAISO's current and MRTU tariff;

• What is/is not working with respect to demand response;

• The role of the CAISO in procuring demand response;

• The coordination among all players in demand response.

[FR Doc. E5-5065 Filed 9-15-05; 8:45 am]

BILLING CODE 6717-01-P